FEDERAL COMMUNICATIONS COMMISSION

47 CFR Part 73

[MM Docket Nos. 96-222, 91-221 & 87-8; FCC 00-406]

Reconsideration of National Television Ownership

AGENCY: Federal Communications Commission.

ACTION: Final rule; denial.

SUMMARY: This document denies a petition seeking reconsideration in part of the Report and Order released in this proceeding on August 6, 1999. It reaffirms the Commission's decision to count a market only once when calculating an entity's national ownership reach.

FOR FURTHER INFORMATION CONTACT: Jane Gross; Policy and Rules Division, Mass Media Bureau, at (202) 418-2130, TTY (202) 418-2989.

SUPPLEMENTARY INFORMATION: This is a summary of the Memorandum Opinion and Order (“MO&O”), in MM Docket Nos. 96-222, 91-221 & 87-8; FCC 00-406. Adopted November 13, 2000, and released January 19, 2001. The full text of this MO&O is available for inspection and copying during regular business hours in the FCC Reference Center, 445 Twelfth Street, SW, Room CY-A257, Washington DC, and also may be purchased from the Commission's copy contractor, International Transcription Service, (202) 857-3800, 445 Twelfth Street, SW, Room CY-B402, Washington DC. The complete text is also available under the file name fcc00406.pdf on the Commission's Internet site at www.fcc.gov.

Paperwork Reduction Act

This document contains no new or modified information collection requirements.

Synopsis of Memorandum Opinion and Order

1. In this MO&O, we deny a petition seeking reconsideration in part of the Report and Order (“R&O”), 64 FR 50647, September 17, 1999. In the R&O, we modified the national television ownership rule to clarify how to calculate a broadcast television station group owner's aggregate national audience reach for purposes of determining compliance with the 35% limit on such reach. The national ownership cap itself was at issue in the 1998 Biennial Review of Broadcast Ownership Rules. In our recently released Report in that proceeding we decided to retain the current 35% limit on a broadcast television station group owner's aggregate national audience reach.

2. In the R&O, we concluded that the public interest would be served by counting a market only once when calculating an entity's national ownership reach, even if that entity has an attributable interest in more than one television station in that market. Specifically, we narrowed the general “satellite exemption” to our ownership rules to exempt from the national ownership rule only satellite television stations in the same market as their parents; decided not to incorporate same-market local marketing agreements (LMAs) into the calculation of the brokering station's national audience reach; and replaced the Commission's use of Arbitron's Areas of Dominant Influence (ADIs) to define geographic television markets with the use of Nielsen's Designated Market Areas (DMAs). Consequently, owners of television stations that have an attributable interest in another TV station in the same market, or that operate a satellite station in the same market, do not have to double count those markets in calculating their national aggregate television audience reach. However, a station owner with an attributable interest in a station in a separate market (including satellite stations and LMAs) would have to count that additional audience as part of its national aggregate audience.

3. The Office of Communication, Inc. of United Church of Christ et al. (UCC et al.) seek reconsideration of the Commission's decision to count a market only once when calculating an entity's national ownership reach. UCC et al. argue that the Commission should instead attribute between 50% and 100% of the DMA households to an entity's second station in a market for purposes of calculating the national audience reach. Although they argue this specifically in the context of TV duopolies, they also contend that intramarket satellites and LMAs should be attributed similarly.

4. We reaffirm our decision to count a market only once when calculating an entity's national ownership reach. We discussed this decision in detail in the context of satellites and LMAs, and also noted that the concept is equally applicable to any situation in which an entity has an attributable interest in more than one TV station in a television market. We stated that when two stations in a market are commonly owned by virtue of the local television ownership rule (i.e., a duopoly), that market's audience reach will be counted only once when calculating the group owner's national aggregate audience reach. We explained that, regardless of a station's actual viewership, a licensee is attributed with all of the viewership in the entire DMA. Therefore, increasing actual viewership by adding a second station does not affect the audience reach calculation, as that calculation already includes all the viewers in that DMA.

5. UCC et al. have not raised any arguments that persuade us to revisit this decision. Indeed, many of UCC et al.'s criticisms appear to be directed not at the national cap itself, but at limiting consolidation in local markets. The issue of how much consolidation should be permitted in local markets is addressed in our local ownership proceeding.

Ordering Clauses

6. Pursuant to the authority contained in sections 4(i), 303(r),and 405 of the Communications Act of 1934, as amended, and section 1.429(i) of the Commission's rules, 47 CFR 1.429(i), it is ordered that the Petition for Reconsideration in this proceeding is denied.

7. This proceeding is hereby terminated.

List of Subjects in 47 CFR Part 73

Television broadcasting.

Federal Communications Commission.
Magalie Roman Salas,
Secretary.

[FR Doc. 01-2542 Filed 1-29-01; 8:45 am]

BILLING CODE 6712-01-P